FEDERAL COMMUNICATIONS COMMISSION

[Report No. 2656]

Petitions for Reconsideration of Action in Rulemaking Proceedings

April 15, 2004.

Note: See Erratum to Report No. 2656.

Petitions for reconsideration have been filed in the Commission's rulemaking proceedings listed in this public notice and published pursuant to 47 CFR 1.429(e). The full text of this document is available for viewing and copying in Room CY-A257, 445 12th Street, SW., Washington, DC or may be purchased from the Commission's copy contractor, Qualex International (202) 863-2893. Oppositions to these petitions must be filed by May 12, 2004. See section 1.4(b)(1) of the Commission's rules (47 CFR 1.4(b)(1)). Replies to an opposition must be filed within 10 days after the time for filing oppositions have expired.

Subject: In the Matter of Allocations and Service Rules for the 71-76 GHz, 81-86 GHz, and 92-95 GHz Bands (WT Docket No. 02-146).

Number of Petitions Filed: 1.

Subject: In the Matter of Table of Allotments FM Broadcast Stations (Hart, Pentwater, and Coopersville, Michigan) (MB Docket No. 02-335, RM-10545).

Number of Petitions Filed: 1.

Marlene H. Dortch,
Secretary.

[FR Doc. 04-9503 Filed 4-26-04; 8:45 am]

BILLING CODE 6712-01-M